DEPARTMENT OF HEALTH AND HUMAN SERVICES

National Institutes of Health

National Institute of Environmental Health Sciences; Amended Notice of Meetings

Notice is hereby given of a change in the meetings of the Interagency Breast Cancer and Environmental Research Coordinating Committee's Research Translation, Dissemination, and Policy Implications (RTDPI) Subcommittee meetings, June 13, 2011, 1 p.m. to 4 p.m. and September 15, 2011, 12 p.m. to 2:30 p.m., NIEHS/National Institutes of Health, Building 4401, East Campus, 79 T.W. Alexander Drive, Research Triangle Park, NC 27709 which was published in the Federal Register on May 2, 2011, 72 FR 24893.

This notice is being amended to change the June and September Research Translation, Dissemination, and Policy Implications (RTDPI) Subcommittee meetings to June 14, 2011 from 1 to 4 p.m. and September 13, 2011 from 1 to 4 p.m. The meetings are open to the public.

Dated: May 19, 2011.
Jennifer S. Spaeth,
Director, Office of Federal Advisory Committee Policy.

[FR Doc. 2011-13123 Filed 5-25-11; 8:45 am]

BILLING CODE 4140-01-P